DEPARTMENT OF HEALTH AND HUMAN SERVICES

National Institutes of Health

Eunice Kennedy Shriver National Institute of Child Health & Human Development; Notice of Meeting

Pursuant to section 1009 of the Federal Advisory Committee Act, as amended, notice is hereby given of a meeting of the National Advisory Child Health and Human Development Council.

The meeting will be open to the public as indicated below, with attendance limited to space available. Individuals who plan to attend and need special assistance, such as sign language interpretation or other reasonable accommodations, should notify the Contact Person listed below in advance of the meeting. The meeting can be accessed from the NIH Videocast at the following link: https://videocast.nih.gov/.

The meeting will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Advisory Child Health and Human Development Council.

Date: September 9-10, 2025.

Open: September 09, 2025, 9:30 a.m. to 10:30 a.m.

Agenda: NICHD Director's Report and other Council Business.

Address: National Institutes of Health, Natcher Building, 45 Center Drive, Bethesda, MD 20892 (In Person and Virtual Meeting).

Open: September 09, 2025, 12:45 p.m. to 5:00 p.m.

Agenda: Council Business.

Address: National Institutes of Health, Natcher Building, 45 Center Drive, Bethesda, MD 20892, (In Person and Virtual Meeting).

Closed: September 10, 2025, 9:45 a.m. to 12:45 p.m.

Agenda: To review and evaluate grant applications.

Address: National Institutes of Health, Natcher Building, 45 Center Drive, Bethesda, MD 20892, (In Person and Virtual Meeting).

Contact Person: Rebekah S. Rasooly, Ph.D., Director, Division of Extramural Activities, Eunice Kennedy Shriver National Institute of Child Health and Human Development, NIH, 6710B Rockledge Drive, Room 2316, Bethesda, MD 20817, Phone: 301-827-2599, Email: Rebekah.rasooly@nih.gov.

Information is also available on the Institute's/Center's home page: https://www.nichd.nih.gov/about/advisory/council, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: June 10, 2025.
Bruce A. George,
Program Analyst, Office of Federal Advisory Committee Policy.

[FR Doc. 2025-10779 Filed 6-12-25; 8:45 am]

BILLING CODE 4140-01-P